DEPARTMENT OF ENERGY

Federal Energy Regulatory Commission

[Docket No. ER15-303-000]

PJM Interconnection, L.L.C. American Transmission Systems, Inc.; Notice of Institution of Section 206 Proceeding and Refund Effective Date

On December 31, 2014, the Commission issued an order in Docket No. ER15-303-000, pursuant to section 206 of the Federal Power Act (FPA), 16 U.S.C. 824e (2012), instituting an investigation into the justness and reasonableness of American Transmission Systems, Inc.'s (ATSI) 12.38 percent return on equity in conjunction with ATSI's October 31, 2014 section 205 filing proposing revisions to its with transmission formula rate and Protocols. PJM Interconnection, L.L.C. et al., 149 FERC ¶ 61,292 (2014).

The refund effective date in Docket No. ER15-303-000, established pursuant to section 206(b) of the FPA, will be the date of publication of this notice in the Federal Register.

Dated: January 6, 2015.
Kimberly D. Bose,
Secretary.

[FR Doc. 2015-00249 Filed 1-9-15; 8:45 am]

BILLING CODE 6717-01-P